DEPARTMENT OF ENERGY

Federal Energy Regulatory Commission

[Project No. 12576-001]

CRD Hydroelectric LLC; Notice of Intent to File License Application, Filing of Pre-Application Document, and Approving Use of the Traditional Licensing Process

September 14, 2007.

a. Type of Filing: Notice of Intent to File License Application and Request to Use the Traditional Licensing Process.

b. Project No.: 12576-001.

c. Dated Filed: July 30, 2007.

d. Submitted By: CRD Hydroelectric LLC (CRD Hydro).

e. Name of Project: Red Rock Hydroelectric Project.

f. Location: The project would be located at the existing Red Rock Dam on the Des Moines River in Marion County, Iowa. The project would occupy federal land administered by the U.S. Corps of Engineers.

g. Filed Pursuant to: 18 CFR 5.3 of the Commission's regulations

h. Applicant Contact: Mr. Douglas Spaulding, 8441 Wayzata Blvd., Suite 101, Golden Valley, MN 55426 (952) 544-8133.

i. FERC Contact: Tim Konnert, (202) 502-6359, or timothy.konnert@ferc.gov.

j. CRD Hydro filed its request to use the Traditional Licensing Process on July 30, 2007. CRD Hydro filed public notice of its request on August 16, 2007. In a letter dated September 13, 2007, the Director of the Office of Energy Projects approved CRD Hydro's request to use the Traditional Licensing Process.

k. With this notice, we are initiating informal consultation with: (a) the U.S. Fish and Wildlife Service under section 7 of the Endangered Species Act; and (b) the Iowa State Historic Preservation Officer, as required by section 106, National Historical Preservation Act, and the implementing regulations of the Advisory Council on Historic Preservation at 36 CFR 800.2.

l. CRD Hydro filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

Register online at http://ferc.gov/esubscribenow.htm to be notified via e-mail of new filing and issuances related to this or other pending projects. For assistance, contact FERC Online Support.

Kimberly D. Bose,
Secretary.

[FR Doc. E7-18670 Filed 9-20-07; 8:45 am]

BILLING CODE 6717-01-P